DEPARTMENT OF THE INTERIOR

Fish and Wildlife Service

[FWS-R4-ES-2017-N020; FXES11130400000EA-123-FF04EF1000]

Endangered and Threatened Wildlife and Plants; Availability of Proposed Low-Effect Habitat Conservation Plans, Lake and Volusia County, FL

AGENCY: Fish and Wildlife Service, Interior.

ACTION: Notice of availability; request for comment/information.

SUMMARY: We, the Fish and Wildlife Service (Service), have received three applications for incidental take permits (ITPs) under the Endangered Species Act of 1973, as amended (Act), in Lake County, Florida. We request public comment on the permit applications and accompanying proposed habitat conservation plans (HCPs), as well as on our preliminary determination that the plans qualify as low-effect under the National Environmental Policy Act (NEPA). To make this determination, we used our environmental action statements and low-effect screening forms, which are also available for review.

DATES: To ensure consideration, please send your written comments by March 31, 2017.

ADDRESSES: If you wish to review the applications and HCPs, you may request documents by email, U.S. mail, or phone (see below). These documents are also available for public inspection by appointment during normal business hours at the office below. Send your comments or requests by any one of the following methods.

Email: northflorida@fws.gov. Use “Attn: Permit number TE14817C-0” for Mattamy Orlando, LLC (Postal Colony Property); “Attn: Permit number TE14818C-0” for Mattamy Orlando, LLC (Hartle Road Extension Property); and “Attn: Permit number TE14819C-0” for Duke Energy Florida, LLC.

Fax: Field Supervisor, (904) 731-3191, Attn: Permit number [Insert permit number].

U.S. mail: Field Supervisor, Jacksonville Ecological Services Field Office, Attn: Permit number [Insert permit number], U.S. Fish and Wildlife Service, 7915 Baymeadows Way, Suite 200, Jacksonville, FL 32256.

In-person drop-off: You may drop off information during regular business hours at the above office address.

FOR FURTHER INFORMATION CONTACT: Erin M. Gawera, telephone: (904) 731-3121; email: erin_gawera@fws.gov.

SUPPLEMENTARY INFORMATION: We, the Fish and Wildlife Service (Service), have received three applications for incidental take permits (ITPs) under the Endangered Species Act of 1973, as amended (Act). Mattamy Orlando, LLC (Postal Colony Property) requests a 5-year ITP; Mattamy Orlando, LLC (Hartle Road Extension Property) requests a 5-year ITP; and Duke Energy Florida requests a 5-year ITP. We request public comment on the permit applications and accompanying proposed habitat conservation plans (HCPs), as well as on our preliminary determination that the plans qualify as low-effect under the National Environmental Policy Act (NEPA). To make this determination, we used our environmental action statement and low-effect screening form, which are also available for review.

Background

Section 9 of the Act (16 U.S.C. 1531 et seq.) and our implementing Federal regulations in the Code of Federal Regulations (CFR) at 50 CFR 17 prohibit the “take” of fish or wildlife species listed as endangered or threatened. Take of listed fish or wildlife is defined under the Act as “to harass, harm, pursue, hunt, shoot, wound, kill, trap, capture, or collect, or to attempt to engage in any such conduct” (16 U.S.C. 1532). However, under limited circumstances, we issue permits to authorize incidental take—i.e., take that is incidental to, and not the purpose of, the carrying out of an otherwise lawful activity.

Regulations governing incidental take permits for threatened and endangered species are at 50 CFR 17.32 and 17.22, respectively. The Act's take prohibitions do not apply to federally listed plants on private lands unless such take would violate State law. In addition to meeting other criteria, an incidental take permit's proposed actions must not jeopardize the existence of federally listed fish, wildlife, or plants.

Applicants' Proposals

Mattamy Orlando, LLC (Postal Colony Property)

Mattamy Orlando, LLC is requesting take of approximately .25 ac of occupied sand skink foraging and sheltering habitat incidental to installation of a water pipe trench, and they seek a 5-year permit. The .77-ac project is located north of John's Lake Road and east of Hancock Road, along Lost Lake Road within Sections 34, Township 22 South, and Range 26 East, Lake County, Florida. The project includes installation of a water pipe trench, and the impacts are considered temporary. The applicant proposes to mitigate for the take of the sand skink by the purchase of 0.02 mitigation credits within the Hatchineha Conservation Bank or another Service-approved sand skink bank.

Mattamy Orlando, LLC (Hartle Road Extension Property)

Mattamy Orlando, LLC is requesting take of approximately 2.0 ac of occupied sand skink foraging and sheltering habitat incidental to construction of a road extension, and they seek a 5-year permit. The 3.7-ac project is located on parcel numbers 09-22-26-110004200000 within Sections 26 and 27, Township 22 South, Range 26 East, Lake County, Florida. The project includes construction of a road extension and the associated infrastructure, and landscaping. The applicant proposes to mitigate for the take of the sand skink by the purchase of 4.0 mitigation credits within the Hatchineha Conservation Bank or another Service-approved sand skink bank.

Duke Energy Florida, LLC (Highbanks Substation)

Duke Energy Florida, LLC is requesting take of approximately .48 acres (ac) of occupied scrub-jay foraging and sheltering habitat incidental to construction of an energy substation, and they seek a 5-year permit. The 27.7-ac project site is located on parcel number 802100000012 within Section 21, Township 18 South, and Range 30 East, Volusia County, Florida. The project includes construction of a substation, access road, and transmission poles, and the associated clearing, infrastructure, and landscaping. The applicant proposes to mitigate for the take of the scrub-jay through the deposit of funds in the amount of $15,327 to the Nature Conservancy's Conservation Fund, for the management and conservation of the Florida scrub-jay based on Service Mitigation Guidelines.

Our Preliminary Determination

We have determined that the applicants' proposals, including the proposed mitigation and minimization measures, would have minor or negligible effects on the species covered in their HCPs. Therefore, we determined that the ITPs for each of the applicants are “low-effect” projects and qualify for categorical exclusion under the National Environmental Policy Act (NEPA), as provided by the Department of the Interior Manual (516 DM 2 Appendix 1 and 516 DM 6 Appendix 1). A low-effect HCP is one involving (1) Minor or negligible effects on federally listed or candidate species and their habitats, and (2) minor or negligible effects on other environmental values or resources.

Next Steps

We will evaluate the HCPs and comments we receive to determine whether the ITP applications meet the requirements of section 10(a) of the Act (16 U.S.C. 1531 et seq.). If we determine that the applications meet these requirements, we will issue ITP numbers TE14817C-0, TE14818C-0, and TE14819C-0. We will also evaluate whether issuance of the section 10(a)(1)(B) ITPs complies with section 7 of the Act by conducting an intra-Service section 7 consultation. We will use the results of this consultation, in combination with the above findings, in our final analysis to determine whether or not to issue the ITPs. If the requirements are met, we will issue the permits to the applicants.

Public Comments

If you wish to comment on the permit applications, HCPs, and associated documents, you may submit comments by any one of the methods in ADDRESSES.

Public Availability of Comments

Before including your address, phone number, email address, or other personal identifying information in your comments, you should be aware that your entire comment—including your personal identifying information—may be made publicly available at any time. While you can ask us in your comment to withhold your personal identifying information from public review, we cannot guarantee that we will be able to do so.

Authority: We provide this notice under section 10 of the Act and NEPA regulations (40 CFR 1506.6).

Dated: February 7, 2017.
Jay B. Herrington,
Field Supervisor, Jacksonville Field Office, Southeast Region.

[FR Doc. 2017-03969 Filed 2-28-17; 8:45 am]

BILLING CODE 4333-15-P